DEPARTMENT OF THE INTERIOR

Bureau of Land Management

[LLNMA00000.L12200000.DF0000]

Notice of Public Meeting, Albuquerque District Resource Advisory Council Meeting, New Mexico

AGENCY: Bureau of Land Management, Interior.

ACTION: Notice of Public Meeting.

SUMMARY: In accordance with the Federal Land Policy and Management Act and the Federal Advisory Committee Act of 1972, the U.S. Department of the Interior, Bureau of Land Management (BLM), Albuquerque District Resource Advisory Council (RAC), will meet as indicated below.

DATES: The meeting date is on December 17, 2013, from 9 a.m.-4 p.m.

ADDRESSES: The meeting will be at the BLM Albuquerque District Office, 435 Montano Rd., Albuquerque, NM. The public may send written comments to the RAC, 435 Montano Rd., Albuquerque, NM 87107.

FOR FURTHER INFORMATION CONTACT: Chip Kimball, BLM Albuquerque District Office, 435 Montano Rd., Albuquerque, NM 87107, 505-761-8734. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member RAC advises the Secretary of the Interior, through the BLM, on a variety of planning and management issues associated with public land management in New Mexico.

Planned agenda items include new member introductions and orientation, election of new officers, discussions on and development of subcommittees, Kasha-Katuwe Tent Rocks fee discussions, updates by the Socorro and Rio Puerco Field Office Managers on planned pipeline and transmission line projects.

A half-hour comment period during which the public may address the RAC will begin at 11:00 a.m. All RAC meetings are open to the public. Depending on the number of individuals wishing to comment and time available, the time for individual oral comments may be limited.

Edwin Singleton,
District Manager.

[FR Doc. 2013-27922 Filed 11-20-13; 8:45 am]

BILLING CODE 4310-FB-P